DEPARTMENT OF COMMERCE

Foreign-Trade Zones Board

[B-68-2013]

Foreign-Trade Zone 32—Miami, Florida, Authorization of Production Activity, Brightstar Corporation (Cell Phone Kitting), Miami, Florida

On June 26, 2013, The Greater Miami Chamber of Commerce, grantee of FTZ 32, submitted a notification of proposed production activity to the Foreign-Trade Zones (FTZ) Board on behalf of Brightstar Corporation, within Site 6, in Miami, Florida.

The notification was processed in accordance with the regulations of the FTZ Board (15 CFR part 400), including notice in the Federal Register inviting public comment (78 FR 39707-39708, 07/02/2013). The FTZ Board has determined that no further review of the activity is warranted at this time. The production activity described in the notification is authorized, subject to the FTZ Act and the Board's regulations, including Section 400.14.

Dated: November 8, 2013.
Andrew McGilvray,
Executive Secretary.

[FR Doc. 2013-27440 Filed 11-14-13; 8:45 am]

BILLING CODE 3510-DS-P